DEPARTMENT OF HOMELAND SECURITY

Federal Emergency Management Agency

44 CFR Part 65

[Docket ID FEMA-2011-0002; Internal Agency Docket No. FEMA-B-1180]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

The tables published under the authority of § 65.4 are amended as follows:

State and county | Location and case No. | Date and name of newspaper where notice was published | Chief executive officer of community | Effective date of modification | Community No.
Illinois:
Kane | Unincorporated areas of Kane County (10-05-2793P) | Aug. 19, 2010, Aug. 26, 2010, The Fox Valley Labor News | Ms. Karen McConnaughay Chairman, Kane County Board, 719 South Batavia Avenue, Geneva, IL 60134 | December 28, 2010 | 170896
Kane | Village of Hampshire (10-05-2793P) | Aug. 19, 2010, Aug. 26, 2010, The Fox Valley Labor News | Mr. Jeffrey Magnussen, President, Village of Hampshire, 234 South State Street, P.O. Box 457, Hampshire, IL 60140 | December 28, 2010 | 170327
Kane | Village of Huntley (10-05-2793P) | Aug. 23, 2010, Aug. 30, 2010, The Northwest Herald | The Honorable Charles H. Saas, Mayor, Village of Huntley, 10987 Main Street, Huntley, IL 60142 | December 28, 2010 | 170480
Kane | Village of Huntley (10-05-2799P) | Aug. 16, 2010, Aug. 23, 2010, The Northwest Herald | The Honorable Charles H. Saas, Mayor, Village of Huntley, 10987 Main Street, Huntley, IL 60142 | December 21, 2010 | 170480
Kane | Unincorporated areas of Kane County (10-05-2799P) | Aug. 12, 2010, Aug. 19, 2010, The Fox Valley Labor News | Ms. Karen McConnaughay, Chairman, Kane County Board, 719 South Batavia Avenue, Geneva, IL 60134 | December 21, 2010 | 170896
Kane | Village of Gilberts (10-05-2799P) | Aug. 16, 2010, Aug. 23, 2010, The Daily Herald | The Honorable Rick Zirk, President, Village of Gilberts, 87 Galligan Road, Gilberts, IL 60136 | December 21, 2010 | 170326
McHenry | Unincorporated areas of McHenry County (10-05-3025P) | Sept. 15, 2010, Sept. 22, 2010, The Woodstock Independent | Mr. Ken A. Koehler, Chairman, McHenry County Board, 2200 North Seminary Avenue, Woodstock, IL 60098 | January 20, 2011 | 170732
McHenry | City of Woodstock (10-05-3025P) | Sept. 15, 2010, Sept. 22, 2010, The Woodstock Independent | The Honorable Dr. Brian Sager, Mayor, City of Woodstock, 811 Regina Court, Woodstock, IL 60098 | January 20, 2011 | 170488
Kansas:
Johnson | City of Leawood (10-07-0270P) | Aug. 25, 2010, Sept. 1, 2010, Sun Publications | The Honorable Peggy J. Dunn, Mayor, City of Leawood, 4800 Town Center Drive, Leawood, KS 66211 | August 11, 2010 | 200167
Johnson | City of Overland Park (10-07-0270P) | Aug. 25, 2010, Sept. 1, 2010, Sun Publications | The Honorable Carl Gerlach, Mayor, City of Overland Park, 8500 Santa Fe Drive, Overland Park, KS 66212 | August 11, 2010 | 200174
Missouri:
Phelps | City of Rolla (10-07-0800P) | Sept. 27, 2010, October 4, 2010, The Rolla Daily News | The Honorable William S. Jenks, III, Mayor, City of Rolla, 901 North Elm Street, Rolla, MO 65401 | February 2, 2011 | 290285
Phelps | Unincorporated areas of Phelps County (10-07-0800P) | Sept. 27, 2010, October 4, 2010, The Rolla Daily News | The Honorable Randy Verkamp, Presiding Commissioner, Phelps County, 200 North Main Street, Rolla, MO 65401 | February 2, 2011 | 290284
New Hampshire: Hillsborough | City of Manchester (10-01-1093P) | July 29, 2010, Aug. 5, 2010, The Union Leader Newspaper | The Honorable Ted Gatsas, Mayor, City of Manchester, One City Hall Plaza, Manchester, NH 03101 | December 3, 2010 | 330169
Ohio:
Greene | Unincorporated areas of Greene County (10-05-2633P) | Aug. 24, 2010, Aug. 31, 2010, The Greene County Daily | The Honorable Rick Perales, Greene County Commissioner, 35 Greene Street, Xenia, OH 45385 | December 29, 2010 | 390193
Greene | City of Bellbrook (10-05-2633P) | Aug. 24, 2010, Aug. 31, 2010, The Greene County Daily | The Honorable Mary Graves, Mayor, City of Bellbrook, 15 East Franklin Street, 2nd Floor, Bellbrook, OH 45305 | December 29, 2010 | 390194
Lorain | City of Elyria (09-05-6438P) | Aug. 26, 2010, Sept. 2, 2010, The Chronicle-Telegram | The Honorable William M. Grace, Mayor, City of Elyria, 131 Court Street, Elyria, OH 44035 | January 3, 2011 | 390350
Delaware | Unincorporated areas of Delaware County (10-05-4584P) | Sept. 15, 2010, Sept. 22, 2010, Westerville News and Public Opinions | Mr. Tommy Thompson, Delaware County Commissioner, 101 North Sandusky Street, Delaware, OH 43015 | January 20, 2011 | 390146
Franklin | City of Westerville (10-05-4584P) | Sept. 15, 2010, Sept. 22, 2010, The Columbus Dispatch | The Honorable Kathy Cocuzzi, Mayor, City of Westerville, 21 South State Street, Westerville, OH 43081 | January 20, 2011 | 390179
Wisconsin:
Manitowoc | Unincorporated areas of Manitowoc County (10-05-2864P) | Sept. 13, 2010, Sept. 20, 2010, The Herald-Times-Reporter | Mr. Bob Ziegelbauer, Manitowoc County Executive, Courthouse, 1010 South 8th Street, Manitowoc, WI 54220 | January 18, 2011 | 550236
Dane | City of Sun Prairie (10-05-3124P) | Sept. 23, 2010, Sept. 30, 2010, The Star | The Honorable Joe Chase, Mayor, City of Sun Prairie, 300 East Main Street, Sun Prairie, WI 53590 | August 30, 2010 | 550573

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-8840 Filed 4-12-11; 8:45 am]

BILLING CODE 9110-12-P